DEPARTMENT OF HOMELAND SECURITY

Coast Guard

33 CFR Part 165

[Docket No. USCG-2012-1036]

Safety Zone; Connectquot River Fall Fireworks; Connectquot River; Oakdale, NY

AGENCY: Coast Guard, DHS.

ACTION: Notice of enforcement of regulation.

SUMMARY: The Coast Guard will enforce the safety zone for Connectquot River Fall Fireworks on Connectquot River in Oakdale, NY from 6:30 p.m. to 7:30 p.m. on November 29, 2014. In the event of inclement weather the safety zone will be enforced from 6:30 p.m. to 7:30 p.m. on November 30, 2014. This action is necessary and intended to ensure safety of life on the navigable waters immediately prior to, during, and immediately after the fireworks event. During the aforementioned period, the Coast Guard will enforce restrictions upon, and control movement of, vessels in a specified area immediately prior to, during, and immediately after the fireworks event. During the enforcement period, no person or vessel may enter the safety zone without permission of the Captain of the Port.

DATES: The regulations in 33 CFR 165.151 Table 1, 11.3 listed below will be enforced from 6:30 p.m. to 7:30 p.m. on November 29, 2014 with a rain date of November 30, 2014.

FOR FURTHER INFORMATION CONTACT: If you have questions on this notice, call or email Petty Officer Ian Fallon, Waterways Management Division, U.S. Coast Guard Sector Long Island Sound; telephone 203-468-4565, email Ian.M.Fallon@uscg.mil.

SUPPLEMENTARY INFORMATION: Connectquot River Fall Fireworks; Connectquot River; Oakdale, NY. The safety zone listed in 33 CFR 165.151 Table 1, 11.3 will be enforced from 6:30 p.m. to 7:30 p.m. on November 29, 2014. In the event of inclement weather the safety zone will be enforced from 6:30 p.m. to 7:30 p.m. on November 30, 2014.

Under the provisions of 33 CFR 165.151, the fireworks display listed above is established as a safety zone. During the enforcement period, persons and vessels are prohibited from entering into, transiting through, mooring, or anchoring within the safety zone unless they receive permission from the COTP or designated representative.

This notice is issued under authority of 33 CFR 165 and 5 U.S.C. 552 (a). In addition to this notice in the Federal Register, the Coast Guard will provide the maritime community with advance notification of this enforcement period via the Local Notice to Mariners or marine information broadcasts. If the COTP determines that the safety zone need not be enforced for the full duration stated in this notice, a Broadcast Notice to Mariners may be used to grant general permission to enter the regulated area.

Dated: November 6, 2014.
E.J. Cubanski, III,
Captain, U.S. Coast Guard, Captain of the Port Sector Long Island Sound.

[FR Doc. 2014-27827 Filed 11-21-14; 8:45 am]

BILLING CODE 9110-04-P